NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 24, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it, too, includes information about the records. Further information about the disposition process is available on request.

Schedules Pending

1. Department of the Army, Agency-wide (N1-AU-00-7, 2 items, 2 temporary items). Records relating to the monitoring of information systems and telecommunications. Included are requests, approvals, notifications, certifications of notification procedures, and information pertaining to the use of monitoring products. Also included are electronic copies of documents created using electronic mail and word processing.

2. Department of the Army, Agency-wide (N1-AU-98-8, 2 items, 2 temporary items). Documents relating to individual travel charge cards of Army military personnel and civilian employees. Included are travel authorizations, vouchers, charge card applications, charge card receipts, terms and conditions for the use of charge cards, and transaction reports. Also included are electronic copies of documents created using electronic mail and word processing.

3. Department of the Army, Agency-wide (N1-AU-00-9, 2 items, 1 temporary item). Electronic copies of documents created using electronic mail and word processing that pertain to security assistance activities provided under the International Security Assistance Act and the Arms Export Control Act. This schedule also proposes minor changes in the disposition instructions for recordkeeping copies of these files, which were previously approved for permanent retention.

4. Department of the Army, Agency-wide (N1-AU-00-10, 3 items, 3 temporary items). Respiratory protection program files relating to general program administration, training, and the results of fit and leak testing of respiratory protection devices. Included are electronic copies of records created using electronic mail and word processing.

5. Department of the Army, Agency-wide (N1-AU-00-11, 2 items, 2 temporary items). Records relating to inventories and examinations of test booklets, scoring keys, and all other accountable test materials. Included are electronic copies of records created using electronic mail and word processing.

6. Department of Defense, Office of the Secretary (N1-330-00-2, 5 items, 5 temporary items). Records relating to the adjudication of security clearances, including electronic copies of documents created using electronic mail and word processing.

7. Department of Housing and Urban Development, Office of Federal Housing Enterprise Oversight (N1-543-00-3, 2 items, 2 temporary items). Assessment calculation files relating to semi-annual assessments of government-sponsored enterprises for funds appropriated to the agency from Congress. Included are electronic copies of documents created using electronic mail and word processing. Notice of this schedule was previously published in the Federal Register of March 22, 2000. It is being re-published due to minor changes occasioned by an agency reorganization.

8. Department of Housing and Urban Development, Office of Federal Housing Enterprise Oversight (N1-543-00-4, 11 items, 9 temporary items). Records accumulated by the Office of Policy Analysis and Research relating to the compensation received by government-supported enterprise executives and to requests for information concerning agency Notices of Proposed Rulemaking. Also included are selected subject files and electronic copies of documents created using electronic mail and word processing. Recordkeeping copies of selected subject files and quarterly reports to the Department of Housing and Urban Development are proposed for permanent retention. Notice of this schedule was previously published in the Federal Register of March 22, 2000. It is being re-published due to minor changes occasioned by an agency reorganization.

9. Department of Housing and Urban Development, Office of Federal Housing Enterprise Oversight (N1-543-00-8, 7 items, 6 temporary items). Project tracking reports, records relating to trips, and selected chronological files accumulated by the Office of the Director. Also included are electronic copies of documents created using electronic mail and word processing. Recordkeeping copies of selected chronological files from the Director's Office are proposed for permanent retention, including files of the Deputy Director and several staff assistants.

10. Department of the Interior, Bureau of Land Management (N1-49-00-1, 2 items, 2 temporary items). Records in all media, including databases, that pertain to list servers, discussion groups, and news groups maintained on internal agency electronic communication and information sharing applications.

11. Department of the Interior, Bureau of Land Management (N1-49-00-2, 3 items, 3 temporary items). Records relating to solicited and unsolicited public commendations, complaints, and comments. Included are such records as letters of complaint and commendation and reports, plans, and other files relating to customer service focus groups and surveys. Also included are electronic copies of records created using electronic mail and word processing.

12. Department of the Interior, U.S. Geological Survey (N1-57-97-3, 2 items, 1 temporary item). Manuscripts and other background papers relating to agency publications. This schedule reduces the retention period for these records, which were previously approved for disposal. It also modifies the transfer instructions for publications, which were previously scheduled for permanent retention.

13. Department of Justice, Federal Bureau of Prisons (N1-129-00-21, 11 items, 9 temporary items). Records of the Office of Assistant Director and General Counsel, including such records as chronological files, Director's working files, executive staff meeting reports, files on foreign travel and speeches, meetings files, miscellaneous and quarterly reports, and tracked correspondence. Also included are electronic copies of documents created using electronic mail and word processing. An inmate issues file and subject files are proposed for permanent retention.

14. Department of Justice, Federal Bureau of Prisons (N1-129-00-22, 4 items, 4 temporary items). Records of the Litigation Branch, including representation requests, reference files, and tracked correspondence. Also included are electronic copies of documents created using electronic mail and word processing.

15. Department of Justice, Federal Bureau of Prisons (N1-129-00-23, 5 items, 5 temporary items). Records of the Legislative and Correctional Issues Branch, including compassionate release files, legislative files, subject files, and correspondence files. Also included are electronic copies of documents created using electronic mail and word processing.

16. Department of Justice, Federal Bureau of Prisons (N1-129-00-24, 2 items, 2 temporary items). Records of the Legal Administrative Branch, including program statement background files and electronic copies of documents created using electronic mail and word processing.

17. Department of Justice, Federal Bureau of Prisons (N1-129-00-25, 6 items, 6 temporary items). Records of the Administrative Complaints and Ethics Branch, including ethics opinions, outside employment and outside travel requests, controlled correspondence, and ethics reference materials. Also included are electronic copies of documents created using electronic mail and word processing.

18. Department of Justice, Federal Bureau of Prisons (N1-129-00-26, 3 items, 3 temporary items). Records of the Commercial Law Branch, including jurisdiction files and subject files. Also included are electronic copies of documents created using electronic mail and word processing.

19. Department of Justice, Federal Bureau of Prisons (N1-129-00-27, 5 items, 5 temporary items). Records of the Labor Law Branch, including controlled correspondence and Merit Systems Protection Board, Federal Labor Relations Authority, and Office of Special Counsel case files. Also included are electronic copies of documents created using electronic mail and word processing.

20. Department of Labor, Employment and Training Administration (N1-369-99-1, 16 items, 16 temporary items). Records relating to programs to provide assistance for workers whose jobs have been or will be impacted by increased imports. Included are such records as petitions, company information, correspondence, public inspection files, funding requests, and program regulations. Also included are electronic copies of documents created using electronic mail and word processing.

21. Department of Labor, Mine Safety and Health Administration (N1-433-98-1, 3 items, 2 temporary items). Electronic copies of documents created using electronic mail and word processing that relate to reports and other records pertaining to the investigation of fatal mine accidents. Extra copies of final reports are also included. In addition, this schedule revises the series description and retirement instructions for recordkeeping copies of investigation files, which were previously approved for permanent retention.

22. Department of Veterans Affairs, Veterans Health Administration (N1-15-99-2, 28 items, 28 temporary items). Anatomic pathology, blood transfusion, and clinical pathology services records. Included are such files as laboratory test reports, test procedures records, pathology test reports, proficiency tests, logs, instrument maintenance records, quality control records, and other documents relating to patient care and laboratory procedures and certification. Also included are electronic copies of records created using electronic mail and word processing. Reports that relate to individual patient care are filed in the patient's medical folder, which was previously approved for disposal 75 years after last episode of care.

23. Consumer Product Safety Commission, Agency-wide (N1-424-00-1, 3 items, 2 temporary items). Records relating to the production of posters, including production materials, negatives, routine artwork, layouts, and preparatory graphic material. Also included are posters pertaining to events and subjects not related to the agency's mission. Posters relating to the agency's mission and operations are proposed for permanent retention.

24. Federal Retirement Thrift Investment Board, Agency-wide (N1-474-00-2, 3 items, 3 temporary items). Copies of Office of Administration internal directives accumulated by agency program offices. Electronic copies created using word processing are also included.

25. Federal Home Loan Bank Board (N1-195-00-1, 3 items, 2 temporary items). Older records, accumulated between 1932 and 1971, consisting of bills and receipts for legal fees, miscellaneous case files, and savings and loan associations' applications for membership in the Federal Home Loan Bank system and other actions, such as relocation and the establishment of branch offices. Records include financial statements, audits, transcripts of hearings, maps, photographs, and publicity materials. The agency's Central Subject File, 1934-1969, is proposed for permanent retention.

26. Tennessee Valley Authority, Chief Administrative Officer (N1-142-00-3, 4 items, 2 temporary items). Paper copies of records of the Chief Administrative Officer for which optical images have been created. Also included are electronic copies of documents created using word processing and electronic mail. Information that has been converted to optical image format is proposed for permanent retention and will be transferred to the National Archives in a medium and format that meets the requirements for archival records in effect at the time of transfer. Paper records that pre-date November 1, 1999, and will not be scanned, are also proposed for permanent retention.

27. Tennessee Valley Authority, Information Services (N1-142-00-4, 2 items, 2 temporary items). Correspondence, reports, and presentations pertaining to the management of the Y2K program. Also included are electronic copies created using electronic mail and word processing.

Dated: May 26, 2000.
Michael J. Kurtz,
Assistant Archivist for Record Services—Washington, DC.

[FR Doc. 00-14275 Filed 6-6-00; 8:45 am]

BILLING CODE 7515-01-P